Proclamation 8198 of October 31, 2007

National Hospice Month, 2007

By the President of the United States of America

A Proclamation

One of America's greatest values is compassion, and our country is blessed by all those who dedicate themselves to caring for others. During National Hospice Month, we recognize the dedicated professionals and volunteers who provide love and comfort to those who are terminally ill.

Across our Nation, hospice physicians, nurses, counselors, and volunteers provide invaluable support that enables many of our citizens to spend their final days in comfort and dignity. By providing physical, psychological, and social assistance, hospice care workers help ensure their patients can spend valuable time with loved ones. Hospice caregivers also help by providing guidance and counseling to the families of those who are ill.

Our Nation is committed to helping ensure that citizens with terminal illness and their families receive the assistance they need. We believe in the dignity and worth of every person at every stage of life, and hospice care brings support and comfort to those in need.

Hospice care professionals and volunteers are answering a timeless call to love their neighbors as themselves. During National Hospice Month, we recognize these individuals for their strength and compassion. Their efforts make our country a more loving and caring place.

NOW, THEREFORE, I, GEORGE W. BUSH, President of the United States of America, by virtue of the authority vested in me by the Constitution and laws of the United States, do hereby proclaim November 2007 as National Hospice Month. I encourage all Americans to observe this month with appropriate programs and activities. I also ask Americans to recognize our health care professionals and volunteers for their contributions to helping provide comfort and care to those facing terminal illness.

IN WITNESS WHEREOF, I have hereunto set my hand this thirty-first day of October, in the year of our Lord two thousand seven, and of the Independence of the United States of America the two hundred and thirty-second.

[FR Doc. 07-5511

Filed 11-1-07; 9:38 am]

Billing code 3195-01-P